DEPARTMENT OF AGRICULTURE

Office of the Under Secretary, Research, Education, and Economics

Notice of the Advisory Committee on Small Farms Meeting

AGENCY: Research, Education, and Economics, USDA.

ACTION: Notice of meeting.

SUMMARY: In accordance with the Federal Advisory Committee Act, 5 U.S.C. App., the United States Department of Agriculture announces a meeting of the USDA Advisory Committee on Small Farms.

SUPPLEMENTARY INFORMATION: The USDA Advisory Committee on Small Farms, consisting of 18 members, representing small farms, ranches, and woodlot owners and the diverse groups USDA programs serve, has scheduled a meeting for August 22-24, 2000 in Sacramento, California. The Committee meeting will be held 8 a.m.-5 p.m. on Tuesday, August 22, on Wednesday, August 23, 8 a.m.-5 p.m., and on Thursday, August 24, 8 a.m.-12 noon. During this time the Advisory Committee will: (1) Hear reports from working sub-committees, (2) hear comments from the general public, (3) finalize plans for achieving the committee objectives, and (4) determine how and when the Committee will make recommendations to the Secretary.

Dates and Locations: The Committee meeting venue will be the Hilton Sacramento Arden West, Sacramento, California. The Hilton is located at 2200 Harvard Street, Sacramento, California, 95815, telephone (916) 922-4700. A map and detailed directions to the hotel are available from the Committee's Executive Director. Notices with the meeting room name will be placed in the hotel lobby listing directions to it. Previous to the full Committee meting, on Monday, August 21, 2000 from 7:30-10:30 PM, the Sub-Committee on Humane Working Conditions in Production Agriculture will sponsor a public hearing session focused on issues specifically related to the work force in agriculture. Organizations or individuals wishing to make a statement should submit a request by letter, fax or e-mail to: Enrique Nelson Escobar, Executive Director, Mail Stop 2027, Room 1412, South Agriculture Building, 1400 Independence Avenue SW., Washington, D.C. 20250-3810. Telephone: 202-720-9354, Fax: 202-720-0443, or e-mail: eescobar@reeusda.gov. Each individual or group making an oral presentation will be limited to a total time of ten minutes. The hearing session will be at the Hilton Sacramento Arden West and notices with the meeting room name will be placed in the hotel lobby listing directions to it.

The Committee will convene for working sessions on Tuesday, August 22, 2000 from 8 a.m. to 12 noon; on Wednesday, August 23, 2000 from 8 a.m. to 12 noon and from 1:30 p.m. to 5 p.m.; and on Thursday, August 24, 2000 from 8 a.m. to 12 noon. On Tuesday, August 22, from 2 p.m. to 4 p.m., the general public will have an opportunity to provide oral and written comments to the Committee on issues related to small farms. The public hearing session will be at the Hilton Sacramento Arden West and notices with the meeting room name will be placed in the hotel lobby listing directions to it. Anyone wishing to make a statement should submit a request by letter, fax or e-mail to: Enrique Nelson Escobar, Executive Director, Mail Stop 2027, Room 1412, South Agriculture Building, 1400 Independence Avenue SW., Washington, D.C. 20250-3810. Telephone: 202-720-9354, Fax: 202-720-0443, or e-mail: eescobar@reeusda.gov. Each individual or group making an oral presentation will be limited to a total time of ten minutes.

Type of Meeting: Open to the public.

FOR FURTHER INFORMATION CONTACT: Enrique Nelson Escobar, Executive Director of the USDA Advisory Committee on Small Farms, Research, Education and Economics, U.S. Department of Agriculture, Mail Stop 2027, Room 1412, South Agriculture Building, 1400 Independence Avenue SW., Washington, D.C. 20250-3810. Telephone: 202-720-9354, Fax: 202-720-0443, or e-mail: eescobar@reeusda.gov.

Comments: The public may file written comments to the USDA Advisory Committee contact person before or within a reasonable time after the meeting. All statements will become a part of the official records of the USDA Advisory Committee on Small Farms and will be kept on file for public review in the office of the USDA Small Farms Coordination, Room 1410 South Building, U.S. Department of Agriculture, Washington, DC . 20250.

Dated: July 31, 2000.
Susan E. Offutt,
Acting Under Secretary, Research, Education, and Economics.

[FR Doc. 00-19739 Filed 8-3-00; 8:45 am]

BILLING CODE 3410-03-P